Executive Order 13932 of June 26, 2020

Modernizing and Reforming the Assessment and Hiring of Federal Job Candidates

By the authority vested in me as President by the Constitution and the laws of the United States of America, including section 301 of title 3, United States Code, and sections 1104(a)(1), 3301, and 7301 of title 5, United States Code, it is hereby ordered as follows:

Section 1. Purpose. The foundation of our professional merit-based civil service is the principle that employment and advancement rest on the ability of individuals to fulfill their responsibilities in service to the American public. Accordingly, Federal Government employment opportunities should be filled based on merit. Policies or practices that undermine public confidence in the hiring process undermine confidence in both the civil service and the Government.

America's private employers have modernized their recruitment practices to better identify and secure talent through skills- and competency-based hiring. As the modern workforce evolves, the Federal Government requires a more efficient approach to hiring. Employers adopting skills- and competency-based hiring recognize that an overreliance on college degrees excludes capable candidates and undermines labor-market efficiencies. Degree-based hiring is especially likely to exclude qualified candidates for jobs related to emerging technologies and those with weak connections between educational attainment and the skills or competencies required to perform them. Moreover, unnecessary obstacles to opportunity disproportionately burden low-income Americans and decrease economic mobility.

The Office of Personnel Management (OPM) oversees most aspects of the civilian Federal workforce, including creating and maintaining the General Schedule classification system and determining the duties, responsibilities, and qualification requirements for Federal jobs. Executive departments and agencies (agencies), however, are responsible for vetting and selecting specific candidates to fill particular job openings consistent with statutory requirements and OPM rules and guidance, including applicable minimum educational requirements. Currently, for most Federal jobs, traditional education—high school, college, or graduate-level—rather than experiential learning is either an absolute requirement or the only path to consideration for candidates without many years of experience. As a result, Federal hiring practices currently lag behind those of private sector leaders in securing talent based on skills and competency.

My Administration is committed to modernizing and reforming civil service hiring through improved identification of skills requirements and effective assessments of the skills job seekers possess. We encourage these same practices in the private sector. Modernizing our country's processes for identifying and hiring talent will provide America a more inclusive and demand-driven labor force.

Through the work of the National Council for the American Worker and the American Workforce Policy Advisory Board, my Administration is fulfilling its commitment to expand employment opportunities for workers. The increased adoption of apprenticeship programs by American employers, the creation of Industry-Recognized Apprenticeship Programs, and the implementation of Federal hiring reforms, including those in this order, represent important steps toward providing more Americans with pathways to family-sustaining careers. In addition, the Principles on Workforce Freedom and Mobility announced by my Administration in January 2020 detail reforms that will expand opportunities and eliminate unnecessary education costs for job seekers. This order builds on the broader work of my Administration to expand opportunity and create a more inclusive 21st-century economy.

This order directs important, merit-based reforms that will replace degree-based hiring with skills- and competency-based hiring and will hold the civil service to a higher standard—ensuring that the individuals most capable of performing the roles and responsibilities required of a specific position are those hired for that position—that is more in line with the principles on which the merit system rests.

Sec. 2. Revision of Job Classification and Qualification Standards. (a) The Director of OPM, in consultation with the Director of the Office of Management and Budget, the Assistant to the President for Domestic Policy, and the heads of agencies, shall review and revise all job classification and qualification standards for positions within the competitive service, as necessary and consistent with subsections (a)(i) and (a)(ii) of this section. All changes to job classification and qualification standards shall be made available to the public within 120 days of the date of this order and go into effect within 180 days of the date of this order.

(i) An agency may prescribe a minimum educational requirement for employment in the Federal competitive service only when a minimum educational qualification is legally required to perform the duties of the position in the State or locality where those duties are to be performed.

(ii) Unless an agency is determining a candidate's satisfaction of a legally required minimum educational requirement, an agency may consider education in determining a candidate's satisfaction of some other minimum qualification only if the candidate's education directly reflects the competencies necessary to satisfy that qualification and perform the duties of the position.

(b) Position descriptions and job postings published by agencies for positions within the competitive service should be based on the specific skills and competencies required to perform those jobs.

Sec. 3. Improving the Use of Assessments in the Federal Hiring Process. (a) In addition to the other requirements of this order, the Director of OPM shall work with the heads of all agencies to ensure that, within 180 days of the date of this order, for positions within the competitive service, agencies assess candidates in a manner that does not rely solely on educational attainment to determine the extent to which candidates possess relevant knowledge, skills, competencies, and abilities. The heads of all agencies shall develop or identify such assessment practices.

(b) In assessing candidates, agencies shall not rely solely on candidates' self-evaluations of their stated abilities. Applicants must clear other assessment hurdles in order to be certified for consideration.

(c) Agencies shall continually evaluate the effectiveness of different assessment strategies to promote and protect the quality and integrity of their hiring processes.

Sec. 4. Definitions. For purposes of this order:

(a) the term “assessment” refers to any valid and reliable method of collecting information on an individual for the purposes of making a decision about qualification, hiring, placement, promotion, referral, or entry into programs leading to advancement;

(b) the term “competitive service” has the meaning specified by section 2102 of title 5, United States Code;

(c) the term “education” refers to Post High-School Education as that term is defined in the OPM General Schedule Qualification Policies; and

(d) the term “qualification” means the minimum requirements necessary to perform work of a particular position or occupation successfully and safely.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

June 26, 2020.

[FR Doc. 2020-14337

Filed 6-30-20; 8:45 am]

Billing code 3295-F0-P